ENVIRONMENTAL PROTECTION AGENCY

40 CFR Part 52

[EPA-R04-OAR-2012-0837; FRL-9797-1]

Approval and Promulgation of Implementation Plans; South Carolina: New Source Review-Prevention of Significant Deterioration

AGENCY: Environmental Protection Agency (EPA).

ACTION: Final rule.

SUMMARY: EPA is taking final action to approve changes to the South Carolina State Implementation Plan (SIP), submitted by the South Carolina Department of Health and Environmental Control (SC DHEC) to EPA in five separate SIP submittals dated May 1, 2012, July 18, 2011, February 16, 2011, December 23, 2009, and December 4, 2008. The SIP revisions make changes to South Carolina's New Source Review (NSR) Prevention of Significant Deterioration (PSD) program to adopt federal PSD requirements regarding fine particulate matter (PM2.5) and changes to the State's provisions related to the national ambient air quality standards (NAAQS) and volatile organic compounds (VOC). EPA is approving portions of the submittals as revisions to South Carolina's SIP because the Agency has determined that they are consistent with the Clean Air Act (CAA or Act) and EPA regulations regarding NSR permitting.

DATES: Effective Date: This rule will be effective May 3, 2013.

ADDRESSES: EPA has established a docket for this action under Docket Identification No. EPA-R04-OAR-2012-0837. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30 excluding federal holidays.

FOR FURTHER INFORMATION CONTACT: For information regarding the South Carolina SIP, contact Ms. Twunjala Bradley, Regulatory Development Section, Air Planning Branch, Air, Pesticides and Toxics Management Division, U.S. Environmental Protection Agency, Region 4, 61 Forsyth Street SW., Atlanta, Georgia 30303-8960. Ms. Bradley's telephone number is (404) 562-9352; email address: bradley.twunjala@epa.gov. For information regarding NSR or PSD, contact Ms. Yolanda Adams, Air Permits Section, at the same address above. Ms. Adams' telephone number is (404) 562-9241; email address: adams.yolanda@epa.gov. For information regarding the PM2.5 NAAQS, contact Mr. Joel Huey, Regulatory Development Section, at the same address above. Mr. Huey's telephone number is (404) 562-9104; email address: huey.joel@epa.gov.

SUPPLEMENTARY INFORMATION:

Table of Contents

I. Background

II. This Action

III. Final Action

IV. Statutory and Executive Order Reviews

I. Background

EPA is taking final action to approve multiple SIP submittals provided by SC DHEC to EPA on May 1, 2012,¹ July 18, 2011,² February 16, 2011,³ December 23, 2009,⁴ and December 4, 2008,⁵ to adopt NSR permitting requirements for implementing the PM2.5 NAAQS, federal changes to the NAAQS, an update to the federal definition for VOC, and an administrative correction to the State's VOC rule. On January 23, 2013, EPA proposed to approve these changes into the South Carolina SIP. See 78 FR 4796. Comments on the proposed rulemaking were due on or before February 22, 2013, and EPA received none. Details concerning each SIP submittal are provided in the docket for today's final action, Docket ID: EPA-R04-OAR-2012-0837. The SIP submittal changes are briefly summarized below. Please refer to EPA's January 23, 2013, proposed rulemaking for more detailed information for each SIP revision as well as the Agency's rationale for today's final rulemaking. Pursuant to section 110 of the CAA, EPA is now taking final action to approve the changes to South Carolina's SIP.

¹ South Carolina's May 1, 2012, submission to EPA also included changes to Regulation 61-62.63—National Emissions Standards for Hazardous Air Pollutants (NESHAP), which is not part of the South Carolina federally approved SIP.

² This SIP submittal also makes changes to South Carolina's SIP at Regulations 61-62.1—Definitions and General Requirements; 61-62.5, Standard 1—Emissions from Fuel Burning Operations; 61-62.5, Standard No. 4—Emissions from Process Industries; and 61-62.5, Standard 6—Alternative Emission Limitation Options (“Bubble”). EPA will consider action on these changes to South Carolina's SIP in a separate rulemaking.

³ This submittal also makes changes to South Carolina's State Regulations 61-62.60, 62.61, 62.63 and 62.72 regarding (New Source Performance Standards) (NSPS), NESHAP for Source Categories, and Acid Rain, respectively. However, these regulations are not part of South Carolina's federally approved SIP; therefore, EPA is not proposing action on these changes.

⁴ This submittal also make changes to South Carolina's State Regulations 61-62.60, 62.61, 62.63 and 62.72 regarding NSPS, NESHAP and Acid Rain, respectively. However, these regulations are not part of South Carolina's federally approved SIP; therefore, EPA is not taking final action to approve these changes.

⁵ This SIP submittal also included changes to SC DHEC's Regulation 61.62-96—Nitrogen Oxides (NOX) and Sulfur Dioxide (SO2) Budget Trading Program General Provisions. EPA took final action to approve this portion of the December 4, 2008, submittal on October 16, 2009 (74 FR 53167).

A. SC DEHC Regulation 61-62.5, Standard No. 7—Prevention of Significant Deterioration

South Carolina's May 1, 2012, SIP submittal amends the State's PSD regulations at Regulation 61-62.5, Standard No. 7—Prevention of Significant Deterioration to adopt only the PM2.5 PSD increments promulgated in the rule entitled “Prevention of Significant Deterioration (PSD) for Particulate Matter Less Than 2.5 Micrometers (PM2.5)—Increments, Significant Impact Levels (SILs) and Significant Monitoring Concentration (SMC),” Final Rule, 75 FR 64864, (October 20, 2010) (hereafter referred to as “PM2.5 PSD Increments-SILs-SMC Rule”). The PM2.5 PSD Increment-SILs-SMC Rule provided additional regulatory requirements under the PSD program regarding the implementation of the PM2.5 NAAQS for NSR including: (1) PM2.5 increments pursuant to section 166(a) of the CAA to prevent significant deterioration of air quality in areas meeting the NAAQS; (2) SILs used as a screening tool (by a major source subject to PSD) to evaluate the impact a proposed major source or modification may have on the NAAQS or PSD increment; and (3) a SMC (also a screening tool) used by a major source subject to PSD to determine the subsequent level of PM2.5 data gathering required for a PSD permit application. PSD increments prevent air quality in clean areas from deteriorating to the level set by the NAAQS. Therefore, an increment is the mechanism used to estimate “significant deterioration” ⁶ of air quality for a pollutant in an area. Under section 165(a)(3) of the CAA, a PSD permit applicant must demonstrate that emissions from the proposed construction and operation of a facility “will not cause, or contribute to, air pollution in excess of any maximum allowable increase or allowable concentration for any pollutant.” When a source applies for a permit to emit a regulated pollutant in an area that meets the NAAQS, the state and EPA must determine if emissions of the regulated pollutant from the source will cause significant deterioration in air quality. As described in the PM2.5 PSD Increment-SILs-SMC Rule, pursuant to the authority under section 166(a) of the CAA, EPA promulgated numerical PSD increments for PM2.5 as a new pollutant ⁷ for which NAAQS were established after August 7, 1977,⁸ and derived 24-hour and annual PM2.5 increments for the three area classifications (Class I, II and III) using the “contingent safe harbor” approach. See 75 FR 64869 and the ambient air increment tables at 40 CFR 51.166(c)(1) and 52.21(c). In addition to PSD increments for the PM2.5 NAAQS, the PM2.5 PSD Increment-SILs-SMC Rule amended the definition at 40 CFR 51.166 and 52.21 for “major source baseline date” and ”minor source baseline date” (including trigger date) to establish the PM2.5 NAAQS specific dates associated with the implementation of PM2.5 PSD increments. See 75 FR 64864. South Carolina's May 1, 2012, SIP submittal did not propose to adopt the SILs and SMC screening tools also promulgated in the PM2.5 PSD Increments-SILs-SMC Rule.⁹ Today's approval of changes to South Carolina's SIP regards only the PSD increment portions of EPA's PM2.5 PSD Increments-SILs-SMC Rule.¹⁰

⁶ Significant deterioration occurs when the amount of the new pollution exceeds the applicable PSD increment, which is the “maximum allowable increase” of an air pollutant allowed to occur above the applicable baseline concentration for that pollutant. Section 169(4) of the CAA provides that the baseline concentration of a pollutant for a particular baseline area is generally the air quality at the time of the first application for a PSD permit in the area.

⁷ EPA generally characterized the PM2.5 NAAQS as a NAAQS for a new indicator of PM. EPA did not replace the PM10 NAAQS with the NAAQS for PM2.5 when the PM2.5 NAAQS were promulgated in 1997. EPA rather retained the annual and 24-hour NAAQS for PM2.5 as if PM2.5 was a new pollutant even though EPA had already developed air quality criteria for PM generally. See 75 FR 64864 (October 20, 2012).

⁸ EPA interprets 166(a) to authorize EPA to promulgate pollutant-specific PSD regulations meeting the requirements of section 166(c) and 166(d) for any pollutant for which EPA promulgates a NAAQS after 1977.

⁹ As part of the response to comments on the October 20, 2010, final rulemaking, EPA explained that the Agency agrees that the SILs and SMCs used as de minimis thresholds for the various pollutants are useful tools that enable permitting authorities and PSD applicants to screen out “insignificant” activities; however, these values are not required by the Act as part of an approvable SIP program. EPA believes that most states are likely to adopt the SILs and SMCs because of the useful purpose they serve regardless of EPA's position that the values are not mandatory. Alternatively, states may develop more stringent values if they desire to do so. In any case, states are not under any SIP-related deadline for revising their PSD programs to add these screening tools. See 75 FR 64864, 64900.

¹⁰ The Sierra Club challenged EPA's authority to implement the PM2.5 SILs and SMC for PSD purposes as promulgated in the October 20, 2010, PM2.5 PSD Increment-SILs-SMC Rule. See Sierra Club v. EPA, Case No 10-1413 (D.C. Cir. January 22, 2013). On January 22, 2013, the court issued an order vacating and remanding to EPA for further consideration the portions of its PM2.5 PSD Increment-SILs-SMC Rule addressing the PM2.5 SILs, except for the parts codifying the PM2.5 SILs in the NSR rule at 40 CFR 51.165(b)(2). The court also vacated parts of the PM2.5 PSD Increment-SILs-SMC Rule establishing the PM2.5 SMC, finding that the Agency had exceeded its statutory authority with respect to these provisions. The D.C. Circuit Court's decision can be found in the docket for today's rulemaking at www.regulations.gov using docket ID: EPA-R04-OAR-2012-0837.

B. Regulation 61-62.5, Standard No. 2—Ambient Air Quality Standards

South Carolina's December 4, 2008, December 23, 2009, and July 18, 2011, SIP submissions, as well as the May 1, 2012, submission, all update South Carolina's ambient air quality standards table at Regulation 61-62.5, Standard No. 2—Ambient Air Quality Standards to be consistent with EPA's NAAQS at 40 CFR part 50 and table at http://www.epa.gov/air/criteria.html. The four SIP submittals amending SC DEHC's NAAQS table can be found in the docket for this proposed rulemaking at www.regulations.gov and are summarized below.

1. December 4, 2008, SIP Submittal

Amends the State's NAAQS table at Regulation 61-62.5, Standard No. 2 to address the amendment to the 24-hour primary NAAQS for PM2.5 from 65 micrograms per cubic meter (µg/m³) to 35 µg/m³ in accordance with EPA's October 17, 2006, revision of the PM2.5 NAAQS. See 71 FR 61144.

2. December 23, 2009, SIP Submittal

This submittal revises the table at Regulation 61-62.5, Standard No. 2 to (1) add the 2008 8-hour ozone NAAQS of 75 parts per billion, (2) amend the lead ¹¹ NAAQS to 0.15 µg/m³ and (3) remove the 1-hour ozone NAAQS, which EPA revoked on June 15, 2005, one year after the effective date of the 1997 8-hour ozone designations. See 70 FR 44470 (August 3, 2005), 69 FR 23858 and 69 FR 23951(April 30, 2004).¹²

¹¹ On November 12, 2008, EPA revised the lead NAAQS from 1.5 µg/m³ to 0.15 µg/m³ based on a rolling 3-month average for both the primary and secondary standards. See 73 FR 66964.

¹² On June 15, 2005 (one year after the effective date of the 1997 8-hour ozone designations), EPA revoked the 1-hour ozone NAAQS for all areas except the 8-hour ozone nonattainment-deferred Early Action Compact (EAC) areas. The 1-hour ozone NAAQS for the EAC nonattainment-deferred areas, including those in South Carolina (Greenville-Spartanburg-Anderson, SC) and Central Midlands Columbia Area, was revoked on April 15, 2009 (one year after the effective date of the EAC areas' 8-hour ozone designations to attainment). See 64 FR 17897 (April 2, 2008), 69 FR 23858 and 69 23951 (April 30, 2004).

3. July 18, 2011, SIP Submittal ¹³

¹³ These two revisions are superseded by SC DHEC's May 1, 2012, SIP submittal, which streamlines and reformats the State's NAAQS table at Regulation 61-62.5, Standard No. 2.

This SIP revision clarifies at Regulation 61-62.5, Standard No. 2 that the carbon monoxide 1-hour and 8-hour average concentrations are not to be exceeded more than once a year (in accordance with 40 CFR 50.8) and adds a footnote referencing 40 CFR 50.16 for detailed explanation concerning calculation of the rolling 3-month average for the lead NAAQS.

4. May 1, 2012, SIP Submittal

This submittal removes from the table at Regulation 61-62.5, Standard No. 2 the coarse particulate matter (PM10) annual standard to be consistent with EPA's October 17, 2006, revocation of the annual PM10 NAAQS. See 71 FR 61144. In addition, this SIP revision reformats the NAAQS table in an effort to ensure information found therein is consistent with EPA's NAAQS at 40 CFR 50 and the table at http://www.epa.gov/air/criteria.html including removing the table's footnotes and instead adding a column referencing the federal CFR for each NAAQS, streamlining the units column, and updating test method references.

C. Regulation 61-62.1—Definitions and General Requirements

South Carolina's December 4, 2008, and February 16, 2011, SIP submittals also amend the State's definition for VOC at Regulation 61-62.1—Definitions and General Requirements to include additional compounds 1,1,1,2,2,3,4,5,5,5-decafluoro-3-methoxy-4-trifluoromethyl-pentane (HFE-7300) (as amended on January 18, 2007 (72 FR 2193)) and propylene carbonate and dimethyl carbonate (amended on January 21, 2009 (74 FR 3437)), respectively, to the list of compounds excluded from the definition of VOC on the basis that they have a negligible contribution to tropospheric formation of ozone to be consistent with the federal definition at 40 CFR 51.100(s).

D. Regulation 61-62.5, Standard 5—Volatile Organic Compounds

Lastly, the December 4, 2008, submittal makes an administrative correction to subparagraphs 2.a.(i)(a) and (b) of Regulation 61-62.5, Standard 5, Section II, Part Q (Manufacture of Synthesized Pharmaceutical Products) by adding the term and symbol “minus (−)” to express the outlet gas temperature threshold for surface condensers.

II. This Action

In this rulemaking EPA is taking final action to approve South Carolina's multiple SIP revisions to adopt the PM2.5 increments, update the State's NAAQS table, update the definition for VOC and make an administrative correction. South Carolina's May 1, 2012, SIP submittal adopts PM2.5 PSD increments revisions (pursuant to section 166(a) of the CAA) into the South Carolina SIP at Regulation 61-62.5, Standard No. 7 ¹⁴ as promulgated in the October 20, 2010, rule and codified at 40 CFR 51.166, including (1) addition of PM2.5 PSD increments at SC DEHC's increments at Regulation 61-62.5, Standard No. 7 (c) and (p)(5)(for Class I variances) (consistent with the tables at 40 CFR 51.166(c)), including replacing the term “particulate matter” with “PM10” in the tables at Regulation 61-62.5, Standard No. 7 paragraphs (c) and (p)(5) (for Class I Variances) and replacing the term “particulate matter” with “PM2.5, PM10” in the text at Regulation 61-62.5, Standard No. 7 paragraph (p)(5) (for Class I Variances); (2) revision to the definition at Regulation 61-62.5, Standard No. 7, paragraph (b)(31)(i)(a)-(c) for “major source baseline date” (consistent with 40 CFR 51.166(b)(14)(i)(a) and (c)), to establish major source baseline date for PM2.5 and removing the term “particulate matter” to distinguish between PM10 and PM2.5; Regulation 61-62.5, Standard No. 7, paragraph (b)(31)(ii)(a)-(c) for “minor source baseline date,” to establish the PM2.5 “trigger date” (consistent with 40 CFR 51.166(b)(14)(ii)(c)) and remove the term “particulate matter” to distinguish between PM10 and PM2.5; (3) revisions to Regulation 61-62.5, Standard No. 7, paragraph (5)(i) for “baseline area” (consistent with 40 CFR 51.166(b)(15)(i) and (ii)) to specify pollutant air quality impact annual averages and amend the regulatory reference for section 107(d) of the CAA at paragraph (5)(ii); and (4) amendment to Regulation 61-62.5, Standard No. 7 paragraph (b)(31)(iii)(a) to also amend the regulatory reference for section 107(d) of the CAA and to add a reference to 40 CFR 51.166. These changes provide for the implementation of the PM2.5 PSD increments for the PM2.5 NAAQS in South Carolina's PSD program.

¹⁴ South Carolina currently has a SIP-approved NSR program for new and modified stationary sources. SC DHEC's PSD preconstruction rules are found at Regulation 61-62.5, Standard No. 7—Prevention of Significant Deterioration and apply to major stationary sources or modifications constructed in areas designated attainment or unclassifiable/attainment as required under part C of title I of the CAA with respect to the NAAQS.

EPA is also taking final action to approve South Carolina's changes to its Regulation 61-62.5, Standard No. 2—Ambient Air Quality Standards table submitted May 1, 2012, July 18, 2011, February 16, 2011, December 23, 2009, and December 4, 2008, SIP revisions. Lastly, EPA is taken final action to approve SC DEHC's changes to the definition of VOC at Regulation 61-62.1—Definitions and General Requirements and administrative correction at Regulation 61-62.5, Standard 5—Volatile Organic Compounds.

Notably, EPA is not taking action on multiple components of the above-referenced SIP submittals—those portions are outlined in Section I, Background, above.

III. Final Action

EPA is taking final action to approve portions of multiple SIP submissions revising South Carolina's SIP to adopt the PM2.5 increments as amended in the October 20, 2010, PM2.5 PSD Increments-SILs-SMC Rule, federal NAAQS updates and VOC definition updates, and to make an administrative correction. EPA has made the determination that these SIP submittals are approvable because they are consistent with section 110 of the CAA and EPA regulations regarding NSR permitting.

IV. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does have tribal implications as specified by Executive Order 13175 (65 FR 67249, November 9, 2000), because the SIP is approved to apply the PSD permitting program statewide including the Catawba Indian Nation in York County, South Carolina. Pursuant to the Catawba Indian Claims Settlement Act, S.C. Code Ann. 27-16-120, “all state and local environmental laws and regulations apply to the Catawba Indian Nation and Reservation and are fully enforceable by all relevant state and local agencies and authorities.” While this action revises South Carolina's existing NSR PSD permitting regulations in the SIP, EPA has determined that these revisions will not impose any substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 3, 2013. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Lead, Nitrogen dioxide, Ozone, Particulate matter, Reporting and recordkeeping requirements, Volatile organic compounds.

Dated: March 21, 2013.
A. Stanley Meiburg,
Acting Regional Administrator, Region 4.

40 CFR part 52 is amended as follows:

PART 52—[AMENDED]

1. The authority citation for part 52 continues to read as follows:

Authority: 42 U.S.C. 7401 et seq.

Subpart PP—South Carolina

2. Section 52.2120 is amended at paragraph (c) by:

a. Under Regulation No. 62.1 revising the entry for “Section 1”,

b. Under Regulation No. 62.5 revising the entry for “Standard No. 2”,

c. Under Regulation No. 62.5, Standard No. 5, Section II revising the entry for “Part Q”,

d. Under Regulation No. 62.5 revising the entry for “Standard No. 7”, and

e. Revising the first “footnote 1” and removing the second “footnote 1” to read as follows:

§ 52.2120 Identification of plan.

* * * * *

(c) * * *

Air Pollution Control Regulations for South Carolina
State citation | Title/subject | State effective date | EPA approval date | Federal Register notice
Regulation No. 62.1 | Definitions and General Requirements | 6/26/1998 | 8/10/2004 | 69 FR 48395
Section I | Definitions | 11/26/2010 | 4/3/13 | [Insert citation of publication]
* * * * * * *
Regulation No. 62.5 | Air Pollution Control Standards |  |  |
* * * * * * *
Standard No. 2 | Ambient Air Quality Standards | 4/27/2012 | 4/3/13 | [Insert citation of publication]
* * * * * * *
Standard No. 5 | Volatile Organic Compounds |  |  |
* * * * * * *
Section II | Provisions for Specific Sources |  |  |
* * * * * * *
Part Q | Manufacture of Synthesized Pharmaceutical Products | 10/24/2008 | 4/3/13 | [Insert citation of publication]
* * * * * * *
Standard No. 7 | Prevention of Significant Deterioration¹ | 4/27/2012 | 4/3/13 | [Insert citation of publication]
* * * * * * *
¹ This regulation (submitted on April 14, 2009) includes the phrase “except ethanol production facilities producing ethanol by natural fermentation under the North American Industry Classification System (NAICS) codes 325193 or 312140,” (at Regulation 61-62.5, Standard No. 7(b)(32)(i)(a) and (iii)(b)(t), (42)(i)1(viii)(t) and Regulation 61-62.5, Standard No. 7.1(c)7(C)(xx) and (e)(T)) as amended in the Ethanol Rule. See 72 FR 24060 (May 1, 2007). EPA has not yet taken action to approve this phrase in the South Carolina SIP.

* * * * *

[FR Doc. 2013-07653 Filed 4-2-13; 8:45 a.m.]

BILLING CODE 6560-50-P